NUCLEAR REGULATORY COMMISSION

694th Meeting of the Advisory Committee on Reactor Safeguards (ACRS)

In accordance with the purposes of Sections 29 and 182b of the Atomic Energy Act (42 U.S.C. 2039, 2232(b)), the Advisory Committee on Reactor Safeguards (ACRS) will hold meetings on April 6-8, 2022. The Committee will be conducting meetings that will include some members being physically present at the U.S. Nuclear Regulatory Commission (NRC) while other members participating remotely. Interested members of the public are encouraged to participate remotely in any open sessions via MS Teams or via phone at 301-576-2978, passcode 314 240 222#. A more detailed agenda including the MS Teams link may be found at the ACRS public website at https://www.nrc.gov/reading-rm/doc-collections/acrs/agenda/index.html. If you would like the MS Teams link forwarded to you, please contact the Designated Federal Officer as follows: Quynh.Nguyen@nrc.gov or Lawrence.Burkhart@nrc.gov

Wednesday, April 6, 2022

8:30 a.m.-8:35 a.m.: Opening Remarks by the ACRS Chairman (Open)—The ACRS Chairman will make opening remarks regarding the conduct of the meeting.

8:35 a.m.-10:00 a.m.: Radiation Embrittlement of Reactor Vessel Materials (Open)—The Committee will have presentations and discussion with representatives from the NRC staff regarding the subject topic.

10:00 a.m.-11:00 a.m.: Committee Deliberation on Radiation Embrittlement of Reactor Vessel Materials (Open)—The Committee will deliberate regarding the subject topic.

12:30 p.m.-2:00 p.m.: BWRX-300 Topical Report on Containment Evaluation Methodology (Open/Closed)—The Committee will have presentations and discussion with representatives from GE-Hitachi and NRC staff regarding the subject topic. [Note: Pursuant to 5 U.S.C 552b(c)(4), a portion of this session may be closed in order to discuss and protect information designated as proprietary.]

2:00 p.m.-3:00 p.m.: Committee Deliberation BWRX-300 Topical Report on Containment Evaluation Methodology (Open/Closed)—The Committee will deliberate regarding the subject topic. [Note: Pursuant to 5 U.S.C 552b(c)(4), a portion of this session may be closed in order to discuss and protect information designated as proprietary.]

3:00 p.m.-6:00 p.m.: Point Beach Subsequent License Renewal Application (Open)—The Committee will have presentations and discussion with representatives from NextEra and NRC staff regarding the subject topic.

Thursday, April 7, 2022

8:30 a.m.-8:35 a.m.: Opening Remarks by the ACRS Chairman (Open)—The ACRS Chairman will make opening remarks regarding the conduct of the meeting.

8:35 a.m.-10:00 a.m.: SHINE Operating License Application Review—Interim Letter (Open/Closed)—The Committee will have presentations and discussion with representatives from SHINE and the NRC staff regarding the subject topic. [Note: Pursuant to 5 U.S.C 552b(c)(4), a portion of this session may be closed in order to discuss and protect information designated as proprietary.]

10:00 a.m.-11:00 a.m.: Committee Deliberation on the SHINE Operating License Application Review—Interim Letter (Open/Closed)—The Committee will deliberate regarding the subject topic. [Note: Pursuant to 5 U.S.C 552b(c)(4), a portion of this session may be closed in order to discuss and protect information designated as proprietary.]

1:00 p.m.-3:30 p.m.: BWRX-300 Topical Report on Advanced Civil Construction and Design Approach (Open/Closed)—The Committee will have presentations and discussion with representatives from GE-Hitachi and NRC staff regarding the subject topic. [Note: Pursuant to 5 U.S.C 552b(c)(4), a portion of this session may be closed in order to discuss and protect information designated as proprietary.]

3:30 p.m.-4:30 p.m.: Committee Deliberation on the BWRX-300 Topical Report on Advanced Civil Construction and Design Approach (Open/Closed)—The Committee will deliberate regarding the subject topic. [Note: Pursuant to 5 U.S.C 552b(c)(4), a portion of this session may be closed in order to discuss and protect information designated as proprietary.]

4:30 p.m.-6:00 p.m.: Preparation of Reports (Open/Closed)—The Committee will continue its discussion of proposed ACRS reports. [Note: Pursuant to 5 U.S.C 552b(c)(4), a portion of this session may be closed in order to discuss and protect information designated as proprietary.]

Friday, April 8, 2022

8:30 a.m.-11:30 a.m.: Future ACRS Activities/Report of the Planning and Procedures Subcommittee and Reconciliation of ACRS Comments and Recommendations/Preparation of Reports (Open/Closed)—The Committee will hear discussion of the recommendations of the Planning and Procedures Subcommittee regarding items proposed for consideration by the Full Committee during future ACRS meetings, and/or proceed to preparation of reports as determined by the Chairman. [Note: Pursuant to 5 U.S.C. 552b(c)(4), a portion of this session may be closed in order to discuss and protect information designated as proprietary.] [Note: Pursuant to 5 U.S.C. 552b(c)(2)and (6), a portion of this meeting may be closed to discuss organizational and personnel matters that relate solely to internal personnel rules and practices of the ACRS, and information the release of which would constitute a clearly unwarranted invasion of personal privacy.]

1:00 p.m.-6:00 p.m.: Preparation of Reports (Open/Closed)—The Committee will continue its discussion of proposed ACRS reports. [Note: Pursuant to 5 U.S.C 552b(c)(4), a portion of this session may be closed in order to discuss and protect information designated as proprietary.]

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the Designated Federal Officer (DFO) (Telephone: 301-415-5844, Email: Quynh.Nguyen@nrc.gov), 5 days before the meeting, if possible, so that appropriate arrangements can be made to allow necessary time during the meeting for such statements. In view of the possibility that the schedule for ACRS meetings may be adjusted by the Chairman as necessary to facilitate the conduct of the meeting, persons planning to attend should check with the Cognizant ACRS staff if such rescheduling would result in major inconvenience.

An electronic copy of each presentation should be emailed to the Cognizant ACRS Staff at least one day before meeting.

In accordance with Subsection 10(d) of Public Law 92-463 and 5 U.S.C. 552b(c), certain portions of this meeting may be closed, as specifically noted above. Use of still, motion picture, and television cameras during the meeting may be limited to selected portions of the meeting as determined by the Chairman. Electronic recordings will be permitted only during the open portions of the meeting.

ACRS meeting agendas, meeting transcripts, and letter reports are available through the NRC Public Document Room (PDR) at pdr.resource@nrc.gov, or by calling the PDR at 1-800-397-4209, or from the Publicly Available Records System (PARS) component of NRC's Agencywide Documents Access and Management System (ADAMS), which is accessible from the NRC website at http://www.nrc.gov/reading-rm/adams.html or http://www.nrc.gov/reading-rm/doc-collections/#ACRS/.

Dated: March 9, 2022.
Russell E. Chazell,
Federal Advisory Committee Management Officer, Office of the Secretary.

[FR Doc. 2022-05365 Filed 3-14-22; 8:45 am]

BILLING CODE 7590-01-P